DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains in the possession of the Slater Museum of Natural History, University of Puget Sound, Tacoma, WA. The human remains were removed from Yachats, Lincoln County, OR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Slater Museum of Natural History, University of Puget Sound professional staff and a consultant in consultation with representatives of the Confederated Tribes of Coos, Lower Umpqua and Siuslaw Indians of Oregon; Confederated Tribes of the Siletz Reservation, Oregon; and Coquille Tribe of Oregon.

At an unknown date, human remains representing a minimum of one individual were removed from the vicinity of Yachats, Lincoln County, OR, by Dr. L. E. Hibbard. Dr. Hibbard gave the human remains to Stanley G. Jewett. Mr. Jewett donated the human remains to the Slater Museum in 1955. No known individual was identified. No associated funerary objects are present.

The individual is most likely of Native American ancestry as indicated by morphological features. Writing on the skull indicates that the human remains were removed from the vicinity of “Yahats,” which is reasonably believed to be a misspelling of Yachats. The geographical location where the human remains were recovered is consistent with the historically documented territory of the tribes now represented by the Confederated Tribes of the Siletz Reservation, Oregon. Members of the Confederated Tribes of Coos, Lower Umpqua and Siuslaw Indians of Oregon and Coquille Tribe of Oregon were moved to the Yachats area where they lived from 1859-1875. Absent additional information about the burial period, officials of the Slater Museum of Natural History reasonably believe that the human remains are most likely affiliated with the Alsea Tribe who had villages in the vicinity of Yachats, which had inhabited the area prior to the arrival of the Confederated Tribes of Coos, Lower Umpqua and Siuslaw Indians of Oregon and Coquille Tribe of Oregon, and continued to inhabit the area afterwards. The Alsea Tribe from the Yachats area are now members of the Confederated Tribes of the Siletz Reservation, Oregon. Furthermore, based on information provided during consultation with tribal representatives, there is a reasonable belief that the human remains share a common ancestry with members of tribes now represented by the Confederated Tribes of the Siletz Reservation, Oregon.

Officials of the Slater Museum of Natural History have determined that, pursuant to 25 U.S.C. 3001 (9-10), the human remains described above represent the physical remains of one individual of Native American ancestry. Officials of the Slater Museum of Natural History also have determined that, pursuant to 25 U.S.C. 3001 (2), there is a relationship of shared group identity that can be reasonably traced between the Native American human remains and the Confederated Tribes of the Siletz Reservation, Oregon.

Representatives of any other Indian tribe that believes itself to be culturally affiliated with the human remains should contact Peter Wimberger, Slater Museum of Natural History, University of Puget Sound, 1500 N. Warner, Tacoma, WA 98416, telephone (253) 879-2784, before July 24, 2008. Repatriation of the human remains to the Confederated Tribes of the Siletz Reservation, Oregon may proceed after that date if no additional claimants come forward.

The Slater Museum of Natural History is responsible for notifying the Confederated Tribes of Coos, Lower Umpqua and Siuslaw Indians of Oregon; Confederated Tribes of the Siletz Reservation, Oregon; and Coquille Tribe of Oregon that this notice has been published.

Dated: May 30, 2008.
Sherry Hutt,
Manager, National NAGPRA Program.

[FR Doc. E8-14230 Filed 6-23-08; 8:45 am]

BILLING CODE 4312-50-S